DEPARTMENT OF TRANSPORTATION

Federal Transit Administration

Early Scoping Notice for the Metropolitan Atlanta Rapid Transit Authority's (MARTA) Proposed Clifton Corridor Transit Initiative in Fulton County and DeKalb County, Georgia

AGENCY: Federal Transit Administration (FTA), Department of Transportation (DOT).

ACTION: Early scoping notice.

SUMMARY: The Federal Transit Administration (FTA) and Metropolitan Atlanta Rapid Transit Authority (MARTA) issue this early scoping notice to advise tribes, agencies, and the public that FTA and MARTA will explore potential alternatives for high-capacity, fixed-guideway transit extending from Lindbergh Center in the City of Atlanta, Fulton County, GA to the City of Decatur in DeKalb County, GA. The project would enhance mobility and accessibility by providing a more robust transit network by linking to existing heavy rail transit lines, with the potential to connect to other planned regional transit expansion projects. This notice invites the public and agency officials to help support the ongoing alternatives analysis and system planning efforts by reviewing information and commenting.

DATES: Two in-person public information open houses will be held at the following times:

• Thursday, July 14, 2022 at 6:30 p.m., at the Emory University Rollins School of Public Health Auditorium, located at 1518 Clifton Road, Atlanta, GA 30322.

• Saturday, July 16, 2022 from 11:00 a.m. to 4:00 p.m., in the atrium of MARTA Headquarters, located at 2424 Piedmont Road NE, Atlanta, GA 30324.

MARTA Headquarters is located at the western terminus of the proposed project in Atlanta's Lindbergh/Morosgo neighborhood, near the existing Lindbergh Center MARTA rail station.

Two online public early scoping meetings will be held at the following times (all times are Eastern Daylight Time):

• Tuesday, July 19, 2022 at 10:00 a.m.

• Wednesday, July 20, 2022 at 6:30 p.m.

Registration information for these public forums can be found below. Pre-registration is not required to attend the in-person forums but is recommended for planning purposes.

• Online Public Early Scoping Meeting #1—Tuesday, July 19, 2022, at 10:00 a.m.: https://us06web.zoom.us/meeting/register/tZIqdO2grz4tHdX-yuIUdBt6HInsuDJ0GGGL

• Online Public Early Scoping Meeting #2—Wednesday, July 20, 2022, at 6:30 p.m.: https://us06web.zoom.us/meeting/register/tZMlfuuvpzMpGtL3bCvFQ4S649P1S_JmFwk9

• In-person Public Information Open House #1—Emory Rollins School of Public Health Auditorium. Thursday, July 14, 2022, at 6:30 p.m.: https://tinyurl.com/4hxxmumb

• In-person Public Information Open House #2—MARTA Atrium. Saturday, July 16, 2022, from 11:00 a.m. to 4:00 p.m.: https://www.surveymonkey.com/r/N8DC2RQ

In-person or electronic scoping comments are requested by August 30, 2022, and may be mailed or emailed to the MARTA Project Manager at the address below or provided via a comment form on the project website here: https://ConnectClifton.com. Virtual forums will be recorded and made available via the project website.

ADDRESSES: Written or electronic comments should be sent to Bryan Hobbs, Project Manager, MARTA, 2424 Piedmont Road NE, Atlanta, GA 30324-3330 or by email to clifton@itsmarta.com. If submitting an electronic comment, please type “Clifton Corridor Study Early Scoping Comment for MARTA” in the subject line of the email. MARTA maintains social media accounts for general announcements and will notify social media followers, in conjunction with publication of this notice, to submit comments to the email address above. Registration links for the early scoping forums can be found on the project website: https://ConnectClifton.com.

The forums will include accessibility accommodations for persons with disabilities. If translation, closed captioning, or other special accommodations are needed, please contact the Project Manager, Bryan Hobbs at (jhobbs@itsmarta.com or 404-848-5733) at least two weeks before the early scoping forums.

FOR FURTHER INFORMATION CONTACT: Julia Walker, Environmental Protection Specialist, FTA Region IV, 230 Peachtree Street, NW, Suite 1400, Atlanta, GA 30303 or email: julia.walker@dot.gov.

SUPPLEMENTARY INFORMATION:

Early Scoping

The early scoping process is intended to support the alternatives analysis, any future National Environmental Policy Act (NEPA) scoping process, and will help streamline the future development of an Environmental Impact Statement (EIS), if warranted. In addition, it supports FTA's planning requirements associated with the Capital Investment Grants New Starts (“Section 5309”) funding program for major capital transit investments. While recent legislation has led to changes in the New Starts process, MARTA will comply with all relevant FTA requirements relating to planning and project development to help analyze and screen alternatives in preparation for the NEPA process. Early scoping is an optional step in the NEPA process that precedes NEPA scoping, which normally begins when the FTA and the grant applicant publish a Notice of Intent to prepare an EIS. Early scoping is intended to generate public and agency review and comments on the scope of a planning effort within a defined transportation corridor, which helps the agency to determine which alignment variations should receive more focused study and project development to streamline the NEPA process. Early scoping can streamline the NEPA process, but also firmly links transportation planning and NEPA; and allows the public and interested agencies the opportunity to review and provide comments on the results of the planning activities and studies that inform the NEPA process. Early scoping for the Clifton Corridor Transit Initiative is being conducted in accordance with the Council on Environmental Quality's (CEQ) and FTA's regulations and guidance for implementing NEPA (40 CFR 1501.2 through 1501.8 and through 23 CFR 771.111), which encourage federal agencies to initiate NEPA early in their planning processes. Early scoping begins as soon as there is enough information to describe the proposal so that the public and relevant agencies can participate effectively. This is particularly useful in situations when a proposed action involves a broadly defined corridor with an array of possible transit investment alternatives. This early scoping notice invites public and agency involvement with the ongoing supplementary planning activities and studies for the Clifton Corridor, including review of the (a) purpose and need, (b) the proposed alternatives, and (c) the potential environmental, transportation, and community impacts and benefits to consider during the NEPA process.

Purpose and Need for the Project

The purpose of the proposed project is to provide a high capacity, fixed-guideway transit service to the Clifton Corridor in a manner that increases the reliability and frequency of existing transit services to and within the corridor; improves access and connectivity within the Clifton Corridor; and provides alternative travel options in the event of emergencies that impair roadway travel within the corridor.

The proposed transit investment would improve accessibility, travel time reliability, and economic development by providing high-capacity transit services for commuters accessing activity centers within the Clifton Corridor and the greater Atlanta region.

The primary needs for the Clifton Corridor Transit Initiative are listed below and are supported by the existing conditions in the corridor and broader Atlanta region:

• Provide high-capacity transit to a major regional population and employment center

• Address the need for reliable and frequent transit

• Improve access and connectivity within the Clifton Corridor.

Project Description

A high-capacity, fixed-guideway transit within a corridor extending from the Lindbergh Center in the City of Atlanta, Fulton County, GA to the City of Decatur in DeKalb County, GA. Potential high-capacity, fixed-guideway alternatives would improve transit linkages and coverage within the study corridor, providing high-capacity transit and regional connectivity to one of the metro area's major regional jobs corridors that includes the Centers for Disease Control and Prevention (CDC), Emory University and Hospital, the Atlanta Veterans Affairs (VA) Medical Center, Emory Decatur Hospital, and several clusters of growing multi-family residential, office, and commercial centers. The project would enhance mobility and accessibility to and within the study corridor by providing a more robust transit network that offers an alternative to automobile travel and would link to existing heavy rail transit lines, with the potential to connect to other planned regional transit expansion projects. The current study evaluates transit modal alternatives that would operate in or adjacent to the CSX Transportation freight rail corridor from the Lindbergh Center MARTA station area to a point near Belt Junction at the Emory-Clairmont Campus in DeKalb County. Transit service would continue east along either: (a) North Decatur Road, DeKalb Industrial Way, N Arcadia Way and E Ponce de Leon Avenue to the Avondale MARTA Station; or (b) continue along Clairemont Avenue to the Decatur MARTA Station.

Project Context and History

The Clifton Corridor Transit Initiative was initiated by MARTA in 2009, in cooperation with the Clifton Corridor Transportation Management Association (CCTMA), to identify and select a transit solution that would provide access to the CDC and Emory University and Hospital Area. An initial alternatives analysis study evaluated several alignment and transit mode alternatives and resulted in a Locally Preferred Alternative (LPA) that was adopted by the MARTA Board of Directors in 2012. Since that time, MARTA has evaluated an extensive number of additional alternatives to maximize operational efficiency and ridership potential, reduce project costs, and reduce environmental and community impacts in a highly complex study area with limited right-of-way (ROW), freight rail, established historic and residential areas, and a rapid pace of real estate development.

Next Steps

FTA and MARTA invite comments on all planning activities and developments, which include, but are not limited to, the Purpose and Need of the Project, the Project study area, potential impacts, and potential alternatives. At the end of the alternatives analysis process, FTA and MARTA anticipate identifying a preferred mode and corridor for further evaluation during the NEPA process. The classification of the NEPA documentation (Categorical Exclusion, Environmental Assessment, or Environmental Impact Statement) will be determined by FTA at the end of the alternatives analysis. If the preferred mode and alignment involve the potential for significant environmental impacts, an EIS may be required. If an EIS is required, a Notice of Intent to Prepare an EIS will be published in the Federal Register by FTA, and the public and interested agencies will have the opportunity to participate in a review and comment period on the scope of the EIS.

Authority: 49 CFR 622.101, 23 CFR 771.111, and 40 CFR 1501.7.

Yvette Taylor,
Regional Administrator.

[FR Doc. 2022-13947 Filed 6-29-22; 8:45 am]

BILLING CODE 4910-57-P